DEPARTMENT OF HOMELAND SECURITY

Coast Guard

[Docket No. USCG-2017-1023]

Certificate of Alternative Compliance for the TUG BERT REINAUER

AGENCY: Coast Guard, DHS.

ACTION: Notice.

SUMMARY: The Coast Guard has issued a Certificate of Alternative Compliance (COAC) to the TUG BERT REINAUER because it is a vessel of special construction or purpose, that, with respect to the position of its navigation and towing lights, is not able to fully comply with the provisions of the International Regulations for Preventing Collisions at Sea, 1972, without interfering with the normal operation of the vessel. Our publication of this notice fulfills a statutory requirement and promotes maritime security.

DATES: The Certificate of Alternative Compliance was issued on November 16, 2017.

FOR FURTHER INFORMATION CONTACT: For information or questions about this notice call or email Mr. Kevin Miller, First District Towing Vessel/Barge Safety Specialist, U.S. Coast Guard; telephone (617) 223-8272, email Kevin.L.Miller2@uscg.mil.

SUPPLEMENTARY INFORMATION: The United States is signatory to the International Maritime Organization's International Regulations for Preventing Collisions at Sea, 1972 (72 COLREGS), as amended. The special construction or purpose of some vessels makes them unable to comply with the light, shape, and sound signal provisions of the 72 COLREGS. Under statutory law ¹ and Coast Guard regulation,² a vessel may instead meet alternative requirements and the vessel's owner, builder, operator, or agent may apply for a Certificate of Alternate Compliance (COAC).

¹ 33 U.S.C. 1605(c).

² 33 CFR 81.3.

For vessels of special construction, the cognizant Coast Guard District Office determines whether the vessel for which the COAC is sought complies as closely as possible with the 72 COLREGS, and decides whether to issue the COAC. The Coast Guard issued a COAC to the TUG BERT REINAUER on November 16, 2017. That COAC will remain valid until information supplied in the COAC application or the COAC terms become inapplicable to the vessel.

Under the governing statute ³ and regulation,⁴ the Coast Guard must publish notice of having issued this COAC. This notice promotes maritime safety by informing vessels that may encounter the TUG BERT REINAUER to expect alternative positioning of its navigation and towing lights.

³ 33 U.S.C. 1605(c).

⁴ 33 CFR 81.18.

The Commandant, U.S. Coast Guard, certifies that the TUG BERT REINAUER is a vessel of special construction or purpose, and that, with respect to the position of the navigation and towing lights, it is not possible to comply fully with the requirements of the provisions enumerated in the 72 COLREGS, without interfering with the normal operation of the vessel. The Commandant further finds and certifies that the sidelights (9′ 7″ from the vessel's side mounted on the pilot house) are in the closet possible compliance with the applicable provisions of the 72 COLREGS and that full compliance with the 72 COLREGS would not significantly enhance the safety of the vessel's operation.

This notice is issued under authority of 33 U.S.C. 1605(c) and 33 CFR 81.18.

Dated: November 20, 2017.
Byron L. Black,
Prevention Chief, First Coast Guard District.

[FR Doc. 2017-25418 Filed 11-22-17; 8:45 am]

BILLING CODE 9110-04-P